DEPARTMENT OF ENERGY

Federal Energy Regulatory Commission

Combined Notice of Filings #1

November 28, 2005.

Take notice that the Commission received the following electric rate filings.

Docket Numbers: ER00-2268-011.

Applicants: Pinnacle West Capital Corporation.

Description: Joint motion to expedite consideration of pending offer of settlement and concurrent filing by Arizona Public Service Co of notice of cancellation re Pinnacle West Capital Corp, Rate Schedule FERC No. 127.

Filed Date: November 14, 2005.

Accession Number: 20051115-0150.

Docket Numbers: ER04-961-005.

Applicants: Midwest Independent Transmission System Operator, Inc.

Description: Midwest Independent Transmission System Operator, Inc submits proposed revisions to Schedule 2 and Module A of their FERC Electric Tariff, Third Revised Volume No. 1.

Filed Date: November 16, 2005.

Accession Number: 20051118-0202.

Comment Date: 5 p.m. eastern time on Wednesday, December 7, 2005.

Docket Numbers: ER05-1047-002.

Applicants: Midwest Independent Transmission System Operator, Inc.

Description: Midwest Independent Transmission System Operator, Inc submits the Small Generator Interconnection & Operating Agreement with East Ridge Transmission, LLC and Great River Energy.

Filed Date: November 16, 2005.

Accession Number: 20051118-0221.

Comment Date: 5 p.m. eastern time on Wednesday, December 7, 2005.

Docket Numbers: ER05-1048-002.

Applicants: Midwest Independent Transmission System Operator, Inc.

Description: Midwest Independent Transmission System Operator, Inc submits the Small Generator Interconnection & Operating Agreement with Wolf Wind Transmission, LLC and Great River Energy.

Filed Date: November 16, 2005.

Accession Number: 20051118-0222.

Comment Date: 5 p.m. eastern time on Wednesday, December 7, 2005.

Docket Numbers: ER05-1318-002.

Applicants: Geneva Energy, LLC.

Description: Geneva Energy LLC submits a petition for acceptance of initial rate schedule, waiver and blanket authority in reference to Geneva's self-certified small power production facility located in Ford Heights, IL formerly known as New Heights Recovery & Power, LLC.

Filed Date: November 17, 2005.

Accession Number: 20051121-0108.

Comment Date: 5 p.m. eastern time on Thursday, December 8, 2005.

Docket Numbers: ER05-1534-001.

Applicants: American Electric Power.

Description: American Electric Power Service Corp, as agent for its affiliate Appalachian Power Co submits AEP & Blue Power Agency, Inc Second Revised Substitute Original Sheet No. 13 of Interconnection & Local Delivery Service Agreement No. 1252.

Filed Date: November 14, 2005.

Accession Number: 20051116-0192.

Comment Date: 5 p.m. eastern time on Monday, December 5, 2005.

Docket Numbers: ER05-1361-001.

Applicants: Calpine Fox LLC.

Description: Calpine Fox LLC's compliance filing of its revised Reactive Supply & Voltage Control from generation service rate schedule, Rate Schedule FERC No. 2.

Filed Date: November 16, 2005.

Accession Number: 20051118-0203.

Comment Date: 5 p.m. eastern time on Wednesday, December 7, 2005.

Docket Numbers: ER06-162-000.

Applicants: Entergy Service, Inc.

Description: Entergy Operating Companies submits proposed revisions to their Open Access Transmission Tariff, FERC Electric Tariff, second Revised Volume No. 3.

Filed Date: November 4, 2005.

Accession Number: 20051108-0284.

Comment Date: 5 p.m. eastern time on Thursday, December 8, 2005.

Docket Numbers: ER06-214-000.

Applicants: Power Bidding Strategies, LLC.

Description: Power Bidding Strategies, LLC submits the petition for acceptance of initial rate schedule, waiver & blanket authority.

Filed Date: November 15, 2005.

Accession Number: 20051118-0204.

Comment Date: 5 p.m. eastern time on Tuesday, December 6, 2005.

Docket Numbers: ER06-215-000.

Applicants: DeGreeffpa, LLC.

Description: DeGreeffpa, LLC's petition for order accepting market-based rate tariff for filing and granting waivers and blanket approvals.

Filed Date: November 16, 2005.

Accession Number: 20051118-0201.

Comment Date: 5 p.m. eastern time on Wednesday, December 7, 2005.

Docket Numbers: ER06-216-000.

Applicants: Midwest Independent Transmission System Operator, Inc.

Description: Midwest Independent Transmission System Operator, Inc., submits a Large Generator Interconnection Agreement with Ameren Services Co et al.

Filed Date: November 16, 2005.

Accession Number: 20051118-0205.

Comment Date: 5 p.m. eastern time on Wednesday, December 7, 2005.

Docket Numbers: ER06-217-000.

Applicants: Geysers Power Company, LLC.

Description: Geysers Power Co LLC submits updated rate schedule for the Reliability Must-Run Service Agreement for Service Year 2006 w/ the California Independent System Operator Corp et al.

Filed Date: November 16, 2005.

Accession Number: 20051118-0216.

Comment Date: 5 p.m. eastern time on Wednesday, December 7, 2005.

Docket Numbers: ER06-218-000.

Applicants: Liberty Power District of Columbia LLC.

Description: Liberty Power District of Columbia LLC submits a Petition for Initial Rate Schedule, Waivers and Blanket Authority.

Filed Date: November 16, 2005.

Accession Number: 20051118-0214.

Comment Date: 5 p.m. eastern time on Wednesday, December 7, 2005.

Docket Numbers: ER06-219-000.

Applicants: Liberty Power New York LLC.

Description: Liberty Power New York LLC submits a Petition for Initial Rate Schedule, Waivers and Blanket Authority.

Filed Date: November 16, 2005.

Accession Number: 20051118-0215.

Comment Date: 5 p.m. eastern time on Wednesday, December 7, 2005.

Docket Numbers: ER06-220-000.

Applicants: Bendwind, LLC.

Description: Petition of Bendwind LLC for order accepting market-based rate tariff for filing and granting waivers and blanket approvals.

Filed Date: November 16, 2005.

Accession Number: 20051118-0218.

Comment Date: 5 p.m. eastern time on Wednesday, December 7, 2005.

Docket Numbers: ER06-221-000.

Applicants: Sierra Wind, LLC.

Description: Petition of Sierra Wind LLC for order accepting market-based rate tariff for filing and granting waivers and blanket approvals.

Filed Date: November 16, 2005.

Accession Number: 20051118-0217.

Comment Date: 5 p.m. eastern time on Wednesday, December 7, 2005.

Docket Numbers: ER06-222-000.

Applicants: Groen Wind, LLC.

Description: Groen Wind, LLC's petition for order accepting market-based rate tariff for filing and granting waivers and blanket approvals.

Filed Date: November 16, 2005.

Accession Number: 20051118-0224.

Comment Date: 5 p.m. eastern time on Wednesday, December 7, 2005.

Docket Numbers: ER06-223-000.

Applicants: Larswind, LLC.

Description: Larswind, LLC's petition for order accepting market-based rate tariff for filing and granting waivers and blanket approvals.

Filed Date: November 16, 2005.

Accession Number: 20051118-0226.

Comment Date: 5 p.m. eastern time on Wednesday, December 7, 2005.

Docket Numbers: ER06-224-000.

Applicants: TAIR Windfarm, LLC.

Description: TAIR Windfarm, LLC's petition for order accepting market-based rate tariff for filing and granting waivers and blanket approvals.

Filed Date: November 16, 2005.

Accession Number: 20051118-0225.

Comment Date: 5 p.m. eastern time on Wednesday, December 7, 2005.

Docket Numbers: ER06-225-000.

Applicants: Hillcrest Wind, LLC.

Description: Hillcrest Wind, LLC's petition for order accepting market-based rate tariff for filing and granting waivers and blanket approvals.

Filed Date: November 16, 2005.

Accession Number: 20051118-0223.

Comment Date: 5 p.m. eastern time on Wednesday, December 7, 2005.

Docket Numbers: ER06-226-000.

Applicants: Choctaw Gas Generation, LLC.

Description: Application of Choctaw Gas Generation, LLC for approval of rate schedule for sales of electric capacity, energy & ancillary services at market-based rates & for approval of certain waivers & blanket authorizations.

Filed Date: November 17, 2005.

Accession Number: 20051121-0109.

Comment Date: 5 p.m. eastern time on Thursday, December 8, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-6911 Filed 12-6-05; 8:45 am]

BILLING CODE 6717-01-P